ENVIRONMENTAL PROTECTION AGENCY

[EPA-HQ-OPP-2015-0634; FRL-9941-50]

Cancellation of Pesticides for Non-Payment of Year 2015 Registration Maintenance Fees; Correction

AGENCY: Environmental Protection Agency (EPA).

ACTION: Notice; correction.

SUMMARY: EPA issued a notice in the Federal Register of November 13, 2015, concerning the cancellation of pesticides for non-payment of year 2015 registration maintenance fees. This document is being issued to correct Table 2 of the cancellation notice by removing two entries which were inadvertently included.

FOR FURTHER INFORMATION CONTACT: Mick Yanchulis, Information Technology and Resources Management Division (7502P), Office of Pesticide Programs, Environmental Protection Agency, 1200 Pennsylvania Ave. NW., Washington, DC 20460-0001; telephone number: (703) 347-0237; email address: yanchulis.michael@epa.gov.

SUPPLEMENTARY INFORMATION:

I. General Information

A. Does this action apply to me?

This action is directed to the public in general. Although this action may be of particular interest to persons who produce or use pesticides, the Agency has not attempted to describe all the specific entities that may be affected by this action.

B. How can I get copies of this document and other related information?

The docket for this action, identified by docket identification (ID) number EPA-HQ-OPP-2015-0634, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

This notice is being issued to correct Table 2 of the cancellation notice. This correction removes 2 entries which were inadvertently included.

FR Doc. 2015-28765 published in the Federal Register of November 13, 2015 (80 FR 70206) (FRL-9934-46) is corrected as follows:

1. On page 70208, in the first column, in Table 2, remove the complete entry for: “069836-00001.”

2. On page 70208, in the first column, in Table 2, remove the complete entry for: “069836-00002.”

Authority: 7 U.S.C. 136 et seq.

Dated: March 17, 2016.
Delores J. Barber,
Director, Information Technology and Resource Management Division, Office of Pesticide Programs.

[FR Doc. 2016-06566 Filed 3-22-16; 8:45 am]

BILLING CODE 6560-50-P